DEPARTMENT OF THE INTERIOR

[133R0680R1, RR.17549897.1000000.01, RC0ZCUPCA0]

Office of the Assistant Secretary—Water and Science; Draft Environmental Assessment of the Proposed Increase in Operation, Maintenance and Replacement Activities Associated With the Wasatch County Water Efficiency Project

AGENCY: Central Utah Project Completion Act Completion Office, Interior.

ACTION: Notice of availability.

SUMMARY: The Department of the Interior (Department), the Utah Reclamation Mitigation and Conservation Commission (Mitigation Commission), and the Central Utah Water Conservancy District (CUWCD), as joint leads, are evaluating the impacts of a proposed increase in operation, maintenance and replacement activities associated with the Wasatch County Water Efficiency Project (WCWEP) and have prepared a Draft Environmental Assessment.

DATES: Submit written comments on the Draft Environmental Assessment by January 31, 2014.

ADDRESSES: Send written comments on the Draft Environmental Assessment to Ms. Sarah Johnson, 355 W. University Parkway, Orem, UT 84058-7303, by email to sarah@cuwcd.com, by facsimile to 801-226-7171, or through the project Web site at www.wcwepea.com.

Copies of the Draft Environmental Assessment are available for inspection at:

• Central Utah Water Conservancy District, 355 West University Parkway, Orem, Utah 84058-7303

• Central Utah Water Conservancy District, WCWEP Office, 626 East 1200 South, Heber City, Utah 84032

• Department of the Interior, Central Utah Project Completion Act Office, 302 East 1860 South, Provo, Utah 84606

• Utah Reclamation Mitigation and Conservation Commission, 230 South 500 East #230, Salt Lake City, Utah 84102-3146

In addition, the document is available at www.cuwcd.com and www.cupcao.gov.

FOR FURTHER INFORMATION CONTACT: Mr. Lee Baxter, Central Utah Project Completion Act Office, 302 East 1860 South, Provo, Utah 84606; by calling 801-379-1174; or email at lbaxter@usbr.gov.

SUPPLEMENTARY INFORMATION: The Department, CUWCD, and the Mitigation Commission are publishing this notice pursuant to Section 102(2)(c) of the National Environmental Policy Act of 1969, as amended. The Draft Environmental Assessment presents analysis of the anticipated environmental effects of a proposed increase in operation, maintenance and replacement activities associated with WCWEP. The WCWEP Operation, Maintenance, and Replacement Proposed Action in the Draft Environmental Assessment includes: Stabilizing canal banks; lining, piping, or enclosing the canals for safety and continued efficiency; improving access; and updating pump stations and regulating ponds to accommodate the changing pattern of water demand and increased urbanization.

We are requesting public comment on the Draft Environmental Assessment. Before including your address, phone number, email address, or other personal identifying information in your comment, you should be aware that your entire comment—including your personal identifying information—may be made publicly available at any time. While you can ask us in your comment to withhold your personal identifying information from public review, we cannot guarantee that we will be able to do so.

Dated: December 24, 2013.
Reed R. Murray,
Program Director, Central Utah Project Completion Act, Department of the Interior.

[FR Doc. 2013-31306 Filed 12-30-13; 8:45 am]

BILLING CODE 4310-MN-P